DEPARTMENT OF ENERGY

Office of Environment, Safety and Health; Submission for OMB Review; Comment Request

AGENCY: Department of Energy.

ACTION: Notice and request for comments.

SUMMARY: The Department of Energy (DOE) has submitted the proposed collections of information described in this notice to the Office of Management and Budget (OMB) for review and approval in accordance with the Paperwork Reduction Act of 1995 (Pub. L. 104-13, 44 U.S.C. Chapter 35). OMB is particularly interested in receiving public comments which evaluate: (1) Whether the proposed collection of information is necessary, (2) the accuracy of DOE's estimate of the burden of the proposed information collection, (3) ways to enhance the quality, utility, and clarity of the information to be collected, and (4) ways to minimize the burden of the collection of information on those who choose to respond.

DATES: Comments regarding this collection of information should be sent on or before March 31, 2000.

ADDRESSES: Comments should be sent to the Office of Management and Budget, Office of Information and Regulatory Affairs, Attention: OMB Desk Officer for DOE, Room 10202, New Executive Office Building, 725 17th Street, N.W., Washington DC 20503. A copy of the comments should also be sent to: Jacqueline D. Rogers, Office of Environment, Safety and Health, EH-51, U.S. Department of Energy, 1000 Independence Ave., S.W., Washington, DC 20585.

FOR FURTHER INFORMATION CONTACT: A copy of the paperwork submission, with applicable supporting documentation, may be obtained from: Jacqueline D. Rogers, Office of Environment, Safety and Health, U.S. Department of Energy, 1000 Independence Ave., S.W., Washington, DC 20585; (301) 903-5684.

SUPPLEMENTARY INFORMATION: The following proposed collection of information has been sent to OMB for clearance:

Title: Chronic Beryllium Disease Prevention Program.

OMB Control Number: None.

Type of request: New collection.

Frequency of response: Monthly, weekly, on occasion (multiple collections).

Respondents: DOE and DOE contractor employers of workers exposed or potentially exposed to beryllium; current workers.

Estimated number of respondents: 1,648.

Total annual burden hours: 54,762 hours.

Summary/description of need: On December 8, 1999, DOE published a final rule to implement a Chronic Beryllium Disease Prevention Program or CBDPP (64 FR 68854). The CBDPP is aimed at reducing the number of workers currently exposed to beryllium in the course of their work at DOE facilities managed by DOE or its contractors; minimizing the levels of and potential exposure to beryllium; and establishing medical surveillance requirements to ensure early detection of the disease. DOE invited public comment on the proposed collections of information in the Notice of Proposed Rulemaking for the Chronic Beryllium Disease Program. DOE now invites the public to send comments on the collections of information in the final rule to the desk officer for DOE in the Office of Information and Regulatory Affairs.

Issued in Washington, DC on February 23, 2000.
David Michaels,
Assistant Secretary, Environment, Safety and Health.

[FR Doc. 00-4879 Filed 2-29-00; 8:45 am]

BILLING CODE 6450-01-P